NATIONAL FOUNDATION ON THE ARTS AND THE HUMANITIES

National Endowment for the Arts

Membership of the National Endowment for the Arts Senior Executive Service Performance Review Board

ACTION: Notice.

SUMMARY: This notice announces the membership of the National Endowment for the Arts (NEA) Senior Executive Service (SES) Performance Review Board (PRB).

DATES: Effective Date: October 13, 2016.

ADDRESSES: Send comments concerning this notice to: National Endowment for the Arts, 400 7th Street SW., Washington, DC 20506.

FOR FURTHER INFORMATION CONTACT: Craig McCord Sr. by telephone at (202) 682-5473 or by email at mccordc@arts.gov.

SUPPLEMENTARY INFORMATION: Sections 4314(c)(1) through (5) of Title 5, U.S.C., requires each agency to establish, in accordance with regulations prescribed by the Office of Personnel Management, one or more SES Performance Review Boards. The Board shall review and evaluate the initial appraisal of a senior executive's performance by the supervisor, along with any response by the senior executive, and make recommendations to the appointing authority relative to the performance of the senior executive.

The following persons have been selected to serve on the Performance Review Board of the National Endowment for the Arts (NEA):

Winona Varnon—Deputy Chairman for Management and Budget

Michael Griffin—Chief of Staff

Sunil Iyengar—Director, Research & Analysis

Ronald Luczak—Director, Office of Security, U.S. Department of Education

Dated: October 13, 2016.
Kathy N Daum,
Director, Office of Administrative Services.

[FR Doc. 2016-25111 Filed 10-17-16; 8:45 am]

BILLING CODE P